DEPARTMENT OF COMMERCE

International Trade Administration

Outside Assessment of DOC Compliance Program

ACTION: Proposed collection; comment request.

SUMMARY: The Department of Commerce, as part of its continuing effort to reduce paperwork and respondent burdens, invites the general public and other Federal agencies to take this opportunity to comment on the continuing information collections, as required by the Paperwork Reduction Act of 1995, Pub. L.104-13 (44 U.S.C. 3506 (c)(2)(A)).

DATES: Written comments must be submitted on or before February 7, 2005.

ADDRESSES: Direct all written comments to Diana Hynek, Departmental Paperwork, Clearance Officer, Department of Commerce, Room 6625, 14th & Constitution Avenue, NW., Washington, DC 20230 or via e-mail at dHynek@doc.gov.

FOR FURTHER INFORMATION CONTACT: Request for additional information or copies of the information collection instrument and instructions should be directed to: Pamela Woods, Trade Compliance Center, Room 3043, U.S. Department of Commerce, 14th and Constitution Ave., NW., Washington, DC 20230; Phone Number: (202) 482-1191.

SUPPLEMENTARY INFORMATION:

I. Abstract

In 2003, the Department of Commerce's (DOC's) International Trade Administration (ITA) conducted a bureau-wide Customer Satisfaction Survey covering all ITA program units, related to the citizen-centered objectives of the President's Management Agenda. The results were used to set a baseline for performance metric reporting and tracking and to better understand the customer base it serves. ITA's Market Access and Compliance (MAC) program survey report identified gaps between a high level of customer awareness yet low customer use of fair trade and market access services. Findings also indicated that a substantial customer base is unaware of the specific services that the DOC Compliance Program offers.

In response to the survey findings, MAC is undertaking a customer service analysis to find out in more specific terms and greater detail, what MAC's Trade Compliance Center's (TCC's) customers expectations are. This will enable the TCC to answer: “What Do Customers Want from the DOC's Compliance Program?” Information about the TCC can be found on its website at http://www.export.gov/tcc.

The purpose of this outside assessment is to obtain customer and potential customer views regarding the DOC Compliance Program to determine:

• If the TCC offers the right set of services to assist U.S. exporters to overcome foreign trade barriers.

• If MAC is aware of exporter needs.

• If the right MAC programs are in place to meet identified needs.

• If MAC services are properly promoted to maximize efficiency and effectiveness.

An enhanced customer satisfaction program or other service improvements might result from this data collection initiative.

II. Method of Collection

The Department of Commerce's (DOC) International Trade Administration (ITA) is making great strides in monitoring ITA's customer satisfaction and advancing a strategic approach to delivering value to its customers. The Trade Agreements Compliance unit has contracted with Charney Research to issue a questionnaire and host focus group interviews to gather strategic feedback from core and target TCC customers. These surveys will assess reactions to MAC's publicly available tools, informational outreach efforts, customer service regarding compliance casework, and new initiatives for exporters.

Contractor will conduct two online focus groups with a total of about two dozen exporting businesses, first, to obtain “open ended” qualitative information on foreign trade barrier assistance needs, outreach demands or opportunities, and market access/compliance values from exporting customer base with program/service contact experiences. Subsequently, mass questionnaires yielding at least 250 survey responses will seek to collect “closed end” quantitative data about customer base identify among the exporting public, best means to deliver promotional campaigns to the private sector, ways to raise user awareness and interactive engagement, reactions to tools available, and perceptions of TCC program and services offered. Narrative experiences derived from focus group participants will be incorporated into survey questions to validate results and benchmark decision points for government officials.

III. Data

OMB Number: 0625-XXXX.

Form Number: ITA-XXX.

Type of Review: Regular Submission.

Affected Public: U.S. Exporters and their Business Representatives, categorized as either active customers, prospective customers, or untapped customers.

Estimated Number of Respondents: 274.

Estimated Time Per Response: 2 hours for focus group participants and 15 minutes for survey respondents.

Estimated Total Annual Burden Hours: 110.5.

Estimated Total Annual Costs: $7,300.

IV. Request for Comments

Comments are invited on: (a) Whether the proposed collection of information is necessary for the proper performance of the functions of the agency, including whether the information shall have practical utility; (b) the accuracy of the agency's estimate of the burden (including hours and costs) of the proposed collection information; (c) ways to enhance the quality, utility, and clarity of the information to be collected; (d) ways to minimize the burden of the collection of information on respondents, including through the use of automated collection techniques or forms of information technology. Comments submitted in response to this notice will be summarized and/or included in the request for OMB approval of this information collection; they also will become a matter of public record.

Dated: December 1, 2004.
Madeleine Clayton,
Management Analyst, Office of the Chief Information Officer.

[FR Doc. E4-3500 Filed 12-6-04; 8:45 am]

BILLING CODE 3510-01-P